DEPARTMENT OF LABOR

Bureau of Labor Statistics

Proposed Collection, Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c) (2)(A)]. This program helps to ensure that requested data can be provided in the desired format, reporting burden (time and financial resources) is minimized, collection instruments are clearly understood, and the impact of collection requirements on respondents can be properly assessed. The Bureau of Labor Statistics (BLS) is soliciting comments concerning the proposed revision of the “National Compensation Survey.” A copy of the proposed information collection request (ICR) can be obtained by contacting the individual listed below in the Addresses section of this notice.

DATES: Written comments must be submitted to the office listed in the Addresses section of this notice on or before June 12, 2001.

ADDRESSES: Send comments to Amy A. Hobby, BLS Clearance Officer, Division of Management Systems, Bureau of Labor Statistics, Room 3255, 2 Massachusetts Avenue, N.E., Washington, D.C. 20212, telephone number 202-691-7628 (this is not a toll free number).

FOR FURTHER INFORMATION CONTACT: Amy A. Hobby, BLS Clearance Officer, telephone number 202-691-7628. (See ADDRESSES section.)

SUPPLEMENTARY INFORMATION:

I. Background

The National Compensation Survey (NCS) is an ongoing survey of earnings and benefits among private firms and State, and local government. The NCS resulted from the merger of three surveys: the NCS earnings and work level data (formerly the Occupational Compensation Survey Program); the Employment Cost Index (ECI); and the Employee Benefits Survey (EBS). Data from these surveys are critical for setting Federal white-collar salaries, determining monetary policy (as a Principal Federal Economic Indicator), and for compensation administrators and researchers in the private sector.

The survey will collect data from a sample of employers. These data will consist of information about the duties, responsibilities, and compensation (earnings and benefits) for a sample of occupations for each sampled employer.

Data will be updated on either an annual or quarterly basis. The updates will allow for production of data on change in earnings and total compensation.

II. Desired Focus of Comments

The Bureau of Labor Statistics is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Action

Office of Management and Budget clearance is being sought for the National Compensation Survey.

The NCS collects earnings and work level data on occupations for the nation and selected localities. The NCS also collects information on the cost, provisions, and incidence of all the major employee benefits through its ECI and EBS programs. The NCS currently is totally integrating data collection and sampling for these three products (NCS earnings and work level data, ECI, and EBS). This change to the NCS sample will help lower total respondent burden and increase the number of possible ways the BLS can provide data.

The NCS data on benefit costs will continue to be used to produce the ECI and Employer Expenditures for Employee Compensation Series. The data provided will be the same, and the series will be continuous.

The NCS will provide all of the data now provided by the EBS. These data include estimates of how many workers receive the various employer-sponsored benefits. The data also will include information about the common features of benefit plans.

Type of Review: Revision of a currently approved collection.

Agency: Bureau of Labor Statistics.

Title: National Compensation Survey.

OMB Number: 1220-0164.

Affected Public: Businesses or other for-profit; not-for-profit institutions; and State, local, and tribal government.

Total Respondents: 43,228 (three-year average).

Frequency: Quarterly, annually.

Total Responses: 70,886 (three-year average).

Estimated Total Burden Hours: 66,593.

All figures in the table below are based on a three-year average. The total respondents and total responses in the table are greater than the figures shown above because many respondents are asked to provide information relating to more than one form.

Collection forms can have multiple uses. The table below shows the average collection times for the predominant uses of the forms. Record checks (for quality assurance and measurement) are done on a sub-sample of respondents verifying responses for pre-selected sections of the forms. The collection times for the NCS government-only forms are zero because they are for initiation of new government sample units, and no initiations of State and local government units are planned for the requested clearance period.

Table 1.—Annual Respondent Burden by Form
[Average of FY 2002, FY 2003, and FY 2004]
Form | Total respondents | Frequency | Total responses | Average minutes for the predominant form use | Estimated total burden (In hours)
Establishment Collection Form (NCS Form 01-1G) | 0 | Annually or Quarterly | 0 | 21 | 0
Establishment Collection Form (NCS Form 01-1P) | 10,983 | Annually or Quarterly | 10,983 | 21 | 3,844
Earning Form (NCS Form 01-2G) | 0 | Annually or Quarterly | 0 | 20 | 0
Earning Form (NCS Form 01-2P) | 10,983 | Annually or Quarterly | 10,983 | 20 | 3,661
Computer Generated Earnings Update Form | 25,945 | Annually or Quarterly | 49,767 | 20 | 16,589
Work Level Form (NCS Form 01-3G) | 0 | Annually or Quarterly | 0 | 31 | 0
Work Level Form (NCS Form 01-3P) | 10,983 | Annually or Quarterly | 10,983 | 31 | 5,675
Informed consent (NCS 99-5) | ¹ Unknown | Unknown | Unknown | Negligible | Negligible
Work Schedule Form (NCS 01-4G) | 0 | Annually or Quarterly | 0 | 10 | 0
Work Schedule Form (NCS 01-4P) | 10,983 | Annually or Quarterly | 10,983 | 10 | 1,831
Benefits Collection Form (NCS 01-5G) | 0 | Annually or Quarterly | 0 | 180 | 0
Benefits Collection Form (NCS 01-5P) | 5,533 | Annually or Quarterly | 5,533 | 180 | 16,599
Summary of Benefits (Benefit update Form SO-1003) is computer generated | 10,033 | Quarterly | 33,611 | 20 | 11,204
Collection not tied to a specific form (testing, QA/QM, etc.) | 9,859 | Unknown | 9,859 | 5-60 | 7,190
Totals | 95,302 |  | 142,702 |  | 66,593
¹ Dependent upon number of respondents who elect to have third parties provide data.

Total Burden Cost (capital/startup): $0.

Total Burden Cost (operating/maintenance): $0.

Comments submitted in response to this notice will be summarized and/or included in the request for Office of Management and Budget approval of the information collection request; they also will become a matter of public record.

Signed at Washington, D.C., this 9th day of April, 2001.
W. Stuart Rust, Jr.,
Chief, Division of Management Systems, Bureau of Labor Statistics.

[FR Doc. 01-9213 Filed 4-12-01; 8:45 am]

BILLING CODE 4520-24-P